ENVIRONMENTAL PROTECTION AGENCY

[FRL-9482-4]

Proposed Reissuance of the NPDES General Permit for Facilities Related to Oil and Gas Extraction in the Territorial Seas of Texas

AGENCY: Environmental Protection Agency.

ACTION: Notice of availability for comment.

SUMMARY: The Director of the Water Quality Protection Division, EPA Region 6 today proposes to issue the National Pollutant Discharge Elimination System (NPDES) general permit for the Territorial Seas of Texas (No. TXG260000) for discharges from existing and new dischargers and New Sources in the Offshore Subcategory of the Oil and Gas Extraction Point Source Category as authorized by section 402 of the Clean Water Act, 33 U.S.C. 1342. The permit will supersede the previous general permit (TXG260000) issued on September 6, 2005 and published in the Federal Register at 70 FR 171. This permit renewal authorizes discharges from exploration, development, and production facilities located in and discharging to the territorial seas off Texas.

DATES: Comments must be received by December 8, 2011.

ADDRESSES: Comments should be sent to: Ms. Diane Smith (6WQ-NP), U.S. Environmental Protection Agency, Region 6, 1445 Ross Avenue, Dallas, Texas 75202-2733.

Comments may also be submitted via e-mail to the following address: smith.diane@epa.gov.

Public Meeting Information

EPA Region 6 will be holding an informal public meeting which will include a presentation on the proposed general permit and a question and answer session. Advance notice of the time and date for this meeting was provided in the Houston Chronicle, Corpus Christi Caller Times, and Beaumont Enterprise newspapers on September 30, 2011, and via EPA's Web site at http://www.epa.gov/region6/water/npdes/genpermit/index.htm. Because informal public meetings accommodate group discussion and question and answer sessions, public meetings have been used for many general permits and appear to be more valuable than formalized public hearings in helping the public understand a proposed general permit and in identifying the issues of concern. Written, but not oral, comments for the administrative record will be accepted at the public meetings. Written comments generated from what was learned at a public meeting may also be submitted any time up to the end of the comment period. The public meeting will be held at South Regional Branch Library, First Floor Lobby Meeting Room, 2101 Lake Robbins Drive, The Woodlands, TX 77380; Time: 6 p.m.-8:30 p.m.; and Date: Tuesday, November 8, 2011.

FOR FURTHER INFORMATION CONTACT: Ms. Diane Smith, Region 6, U.S. Environmental Protection Agency, 1445 Ross Avenue, Dallas, Texas 75202-2733. Telephone: (214) 665-2145.

A complete draft permit and a fact sheet more fully explaining the proposal may be obtained from Ms. Smith. In addition, the Agency's current administrative record on the proposal is available for examination at the Region's Dallas offices during normal working hours after providing Ms. Smith 24 hours advance notice. Additionally, a copy of the proposed permit, fact sheet, and this Federal Register Notice may be found on the EPA Region 6 Web site at: http://www.epa.gov/region6/water/npdes/genpermit/index.htm.

SUPPLEMENTARY INFORMATION: EPA intends to use the proposed reissued permit to regulate oil and gas extraction facilities located in the territorial seas off Texas. To obtain discharge authorization, operators of such facilities must submit a new Notice of Intent (NOI). To determine whether your (facility, company, business, organization, etc.) is regulated by this action, you should carefully examine the applicability criteria in Part I, Section A.1 of the permit. If you have questions regarding the applicability of this action to a particular entity, consult the person listed in the FOR FURTHER INFORMATION CONTACT section above. The proposed permit contains limitations conforming to EPA's Oil and Gas extraction, Offshore Subcategory Effluent Limitation Guidelines at 40 CFR part 435 and additional requirements assuring that regulated discharges will not cause unreasonable degradation of the marine environment, as required by section 403(c) of the Clean Water Act. Limitations and conditions are also included to ensure compliance with State Water Quality Standards. Specific information on the derivation of those limitations and conditions is contained in the fact sheet.

Specifically, the draft permit proposes to prohibit the discharge of drilling fluids, drill cuttings and produced sand. Produced water discharges are limited for oil and grease, 7-day chronic toxicity, and 24-hour acute end-of-pipe toxicity. In addition to limits on oil and grease, the proposed permit includes a prohibition of the discharge of priority pollutants except in trace amounts in well treatment, completion, and workover fluids. A limit of “No Free Oil” is proposed for miscellaneous discharges, such as non-contact cooling water and ballast water, and on deck drainage discharges. Discharges of seawater and freshwater which have been used to pressure test existing pipelines and piping, to which treatment chemicals have been added, are proposed to be subject to limitations on free oil, concentration of treatment chemicals, and acute toxicity. New facilities withdrawing water greater than 2 million gallons per day (MGD) are required to have the best technology available for minimizing fish/shellfish impingement mortality and entrainment caused by cooling water intake structures. EPA also proposes to require produced water effluent characteristics study and sediment monitoring in order to collect information on how produced water discharged to the Texas territorial seas may impact water quality and the marine environment. EPA will then evaluate the data with respect to further action in order to minimize potential adverse impacts caused by produced water on aquatic life and/or human health. EPA is also soliciting comments on whether or not to prohibit the discharge of produced water from new production wells or even to apply “no discharge” of produced water to all facilities.

Other Legal Requirements

Oil Spill Requirements

Section 311 of the CWA, “the Act”, prohibits the discharge of oil and hazardous materials in harmful quantities. Discharges that are in compliance with NPDES permits under normal operational conditions are excluded from the provisions of Section 311. However, the permit does not preclude the institution of legal action or relieve permittees from any responsibilities, liabilities, or penalties for other, unauthorized discharges of oil and hazardous materials which are covered by Section 311 of the Act. This general permit does not authorize discharges beyond normal exploration, development, and production of oil and gas extraction activities. For instance, an oil spill caused by explosion, like the Deepwater Horizon event that extended from April 20, 2010 to September 19, 2010, when oil flowed from a well in the outer continental shelf portion of the Gulf of Mexico, or any potential gas spill is not covered by this general permit.

Endangered Species Act

The Environmental Protection Agency evaluated the potential effects of issuance of this permit reissuance upon listed threatened or endangered species. Based on that evaluation, EPA has determined that authorization of the discharges is not likely to adversely affect any listed threatened or endangered species. EPA has initiated section 7 consultations in accordance with the Endangered Species Act with the U.S. Fish and Wildlife Service (FWS) and the National Marine Fisheries Service (NMFS). The FWS concurred with EPA's determination (Consultation No. 21410-2004-I-0051) on July 15, 2011. EPA is still working with the NMFS on its concurrence.

National Environmental Policy Act

EPA issued a final Environmental Impact Statement (EIS) which was published in the Federal Register at 69 FR 15829 on March 26, 2004, to evaluate the potential environmental consequences of this Federal (general permit) action, pursuant to its responsibilities under the National Environmental Policy Act of 1969 (NEPA). EPA responded to all issues raised on the Final EIS and issued a Record of Decision on January 11, 2005. EPA has prepared a Supplemental Information Report (SIR) to the 2005 issued final EIS. The SIR is posted on the Internet at: http://www.epa.gov/region6/water/npdes/genpermit/index.htm.

Ocean Discharge Criteria Evaluation

For discharges into waters of the territorial sea, contiguous zone, or oceans, CWA section 403 requires EPA to consider guidelines for determining potential degradation of the marine environment in issuance of NPDES permits. These Ocean Discharge Criteria (40 CFR 125, Subpart M) are intended to “prevent unreasonable degradation of the marine environment and to authorize imposition of effluent limitations, including a prohibition of discharge, if necessary, to ensure this goal” (45 FR 65942, October 3, 1980). EPA prepared a report on “Ocean Discharge Criteria Evaluation for the NPDES General Permit for the Territorial Seas of the State of Texas” dated October 25, 2002, when EPA proposed the reissuance of the general permit in 2004, and concluded that reissuance of the Oil and Gas General Permit for the Territorial Seas of Texas would not result in unreasonable degradation of the marine environment. EPA has reevaluated the ten (10) criteria in the SIR mentioned above.

Marine Protection, Research, and Sanctuaries Act

The Marine Protection, Research and Sanctuaries Act (MPRSA) of 1972 regulates the dumping of all types of materials into ocean waters and establishes a permit program for ocean dumping. In addition the MPRSA establishes the Marine Sanctuaries Program, implemented by the National Oceanographic and Atmospheric Administration (NOAA), which requires NOAA to designate ocean waters as marine sanctuaries for the purpose of preserving or restoring their conservation, recreational, ecological or aesthetic values. Pursuant to the Marine Protection and Sanctuaries Act, NOAA has not designated any marine sanctuaries within the area covered under the permit. The proposed permit also prohibits discharges to marine sanctuary areas.

Magnuson-Stevens Fishery Management and Conservation Act

EPA has determined that reissuance of this general permit is not likely to adversely affect Essential Fish Habitat established under the 1996 amendments to the Magnuson-Stevens Fishery Management and Conservation Act. In the letter of June 17, 2011, National Marine Fisheries Service (NMFS) concurred with the determination that issuance of the permit has no adverse effect to Essential Fish Habitat.

Coastal Zone Management Act

EPA has determined that the activities which are proposed to be authorized by this permit are consistent with the local and state Coastal Zone Management Plans. The proposed permit and consistency determination will be submitted to the State of Texas for interagency review during the comment period of the public notice. It should be noted that decisions to allow oil and gas exploration and production in the territorial seas are made by the State of Texas and not the EPA.

State Certification

Under section 401(a)(1) of the Act, EPA may not issue an NPDES permit until the State in which the discharge will originate grants or waives certification to ensure compliance with appropriate requirements of the Act and State law. Section 301(b)(1)(C) of the Act requires that NPDES permits contain conditions that ensure compliance with applicable state water quality standards or limitations. The proposed permit contains limitations intended to ensure compliance with state water quality standards and has been determined by EPA Region 6 to be consistent with Texas Water Quality Standards and the corresponding implementation guidance. The Region will solicit the 401 certification from the Texas Railroad Commission.

Paperwork Reduction Act

The information collection required by this permit has been approved by the Office of Management and Budget (OMB) under the provisions of the Paperwork Reduction Act, 44 U.S.C. 3501 et seq., in submission made for the NPDES permit program and assigned OMB control numbers 2040-0086 (NPDES permit application) and 2040-0004 (discharge monitoring reports).

This reissued permit requires reporting and application requirements for new facilities to comply with cooling water intake structure requirements and therefore it requires more reporting burdens for new facilities from those under the previous general permit. Since this permit is very similar in reporting and application requirements in discharges which are required to be monitored as the Western Gulf of Mexico Outer Continental Shelf (OCS) general permit (GMG290000) which also has cooling water intake structure requirements, the paperwork burdens are expected to be nearly identical. EPA estimated it would take an affected facility 3 hours to prepare the request for coverage and 3 hours per month to prepare discharge monitoring reports. It is estimated that the time required to prepare the request for coverage and discharge monitoring reports for this permit will be the same. A new facility may need more time to prepare information for cooling water intake structure requirements. This proposal requires electronic reporting for discharge monitoring reports, and it will save some reporting time.

However, the alternative to obtaining authorization to discharge under this general permit is to obtain an individual permit. The burden of obtaining authorization to discharge under the general permit is expected to be significantly less than the burden of obtaining an individual permit.

Regulatory Flexibility Act

The Regulatory Flexibility Act, 5 U.S.C. 601 et seq., requires that EPA prepare a regulatory flexibility analysis for regulations that have a significant impact on a substantial number of small entities. The permit renewal proposed today is not a “rule” subject to the Regulatory Flexibility Act. EPA prepared a regulatory flexibility analysis, however, on the promulgation of the Offshore Subcategory guidelines on which many of the permit's effluent limitations are based. That analysis has shown that issuance of this permit would not have a significant impact on a substantial number of small entities.

Dated: October 14, 2011.
William K. Honker,
Acting Director, Water Quality Protection Division, EPA Region 6.

[FR Doc. 2011-27421 Filed 10-21-11; 8:45 am]

BILLING CODE 6560-50-P